INTERNATIONAL TRADE COMMISSION

[Investigation Nos. 731-TA-672-673 (Fifth Review)]

Silicomanganese From China and Ukraine

Determinations

On the basis of the record ¹ developed in the subject five-year reviews, the United States International Trade Commission (“Commission”) determines, pursuant to the Tariff Act of 1930 (“the Act”), that revocation of the antidumping duty orders on silicomanganese from China and Ukraine would be likely to lead to continuation or recurrence of material injury to an industry in the United States within a reasonably foreseeable time.²

¹ The record is defined in § 207.2(f) of the Commission's Rules of Practice and Procedure (19 CFR 207.2(f)).

² Commissioner David S. Johanson dissenting with respect to the order on silicomanganese from Ukraine.

Background

The Commission instituted these reviews on November 1, 2023 (88 FR 75029) and determined on February 5, 2024, that it would conduct full reviews (89 FR 13375, February 22, 2024). Notice of the scheduling of the Commission's reviews and of a public hearing to be held in connection therewith was given by posting copies of the notice in the Office of the Secretary, U.S. International Trade Commission, Washington, DC, and by publishing the notice in the Federal Register on May 1, 2024 (89 FR 35240). The Commission conducted its hearing on September 5, 2024. All persons who requested the opportunity were permitted to participate.

The Commission made these determinations pursuant to section 751(c) of the Act (19 U.S.C. 1675(c)). It completed and filed its determinations in these reviews on October 28, 2024. The views of the Commission are contained in USITC Publication 5554 (October 2024), entitled Silicomanganese from China and Ukraine: Investigation Nos. 731-TA-672-673 (Fifth Review).

By order of the Commission.
Issued: October 28, 2024.
Lisa Barton,
Secretary to the Commission.

[FR Doc. 2024-25415 Filed 10-31-24; 8:45 am]

BILLING CODE 7020-02-P